ARCHITECTURAL AND TRANSPORTATION BARRIERS COMPLIANCE BOARD

Courthouse Access Advisory Committee; Meeting

AGENCY: Architectural and Transportation Barriers Compliance Board.

ACTION: Notice of appointment of advisory committee members and date of first meeting.

SUMMARY: The Architectural and Transportation Barriers Compliance Board (Access Board) has decided to establish an advisory committee to advise the Board on issues related to the accessibility of courthouses covered by the Americans with Disabilities Act of 1990 and the Architectural Barriers Act of 1968. The Courthouse Access Advisory Committee (Committee) includes organizations which represent the interests affected by the accessibility guidelines for courthouses. This notice also announces the date, times and location of the first Committee meeting, which will be open to the public.

DATES: The first meeting of the Committee is scheduled for November 4, 2004, beginning at 9 a.m. and ending at 6 p.m.; and November 5, 2004 beginning at 9 a.m. and ending at 12 p.m.

ADDRESSES: The meeting will be held at the Ronald Reagan Building, Hemisphere A, 1300 Pennsylvania Avenue, NW., Washington, DC 20004.

FOR FURTHER INFORMATION CONTACT: Elizabeth Stewart, Office of General Counsel, Architectural and Transportation Barriers Compliance Board, 1331 F Street, NW., suite 1000, Washington, DC, 20004-1111. Telephone number (202) 272-0042 (Voice); (202) 272-0082 (TTY). E-mail stewart@access-board.gov.

SUPPLEMENTARY INFORMATION:

Availability of Copies and Electronic Access

Single copies of this publication may be obtained at no cost by calling the Access Board's automated publications order line (202) 272-0080, by pressing 2 on the telephone keypad, then pressing 1, and requesting publication S-51 (Courthouse Access Advisory Committee notice). Persons using a TTY should call (202) 272-0082. Please record a name, address, telephone number and request publication S-51. This document is available in alternate formats upon request. Persons who want a copy in an alternate format should specify the type of format (cassette tape, Braille, large print, or computer disk). This document is also available on the Board's Internet site (http://www.access-board.gov/caac.htm).

Courthouse Access Advisory Committee

In February of this year, the Access Board announced that it will undertake outreach activities that highlight accessibility within a particular sphere or focus area. Outreach efforts will aim to increase awareness of a particular aspect of accessibility through partnerships with interested stakeholders and the development and distribution of information and guidance materials. The goal of this program is to increase the visibility of different facets of accessibility in a manner that supplements the Board's technical assistance and training programs, builds partnerships with other entities, improves compliance with access requirements, and showcases best practices for accessible design. In choosing access to courthouses as its first focus topic, the Board gave priority to an area that has been problematic or not well understood and where supplementary guidance is needed. Access to courts was highlighted in May when the U.S. Supreme Court ruled that individuals may sue states under Title II of the Americans with Disabilities Act for failing to provide access to courts.¹

¹Tennessee vs. Lane, 158 L.Ed. 820 (2004)

As part of the outreach efforts on courthouse accessibility, the Access Board is establishing a Federal advisory committee to advise the Access Board on issues related to the accessibility of courthouses, particularly courtrooms, including best practices, design solutions, promotion of accessible features, educational opportunities, and the gathering of information on existing barriers, practices, recommendations, and guidelines.

On June 25, 2004, the Access Board published a notice of intent to establish an advisory committee to advise the Board on issues related to the accessibility of courthouses covered by the Americans with Disabilities Act of 1990 and the Architectural Barriers Act of 1968. (69 FR 35578) The notice identified the interests that are likely to be significantly affected by issues relating to courthouse accessibility: courthouse designers; judges and court administrators; Federal, State and local government agencies; standards-setting organizations; organizations representing the access needs of individuals with disabilities; and other persons affected by courthouse accessibility.

Over 60 nominations were submitted. Over one third of the applications were from individuals or organizations representing persons with disabilities. Another third of the applications were from State and local governments; six applications were from Federal entities; several applications were from major code groups and the remainder were from architects, lift manufacturers and distributors, or others with an interest in courthouse accessibility. For the reasons stated in the notice of intent, the Access Board has determined that establishing the Courthouse Access Advisory Committee is necessary and in the public interest. The Access Board has appointed 31 members to the Committee from the following organizations:

Accessibility Equipment Manufacturers Association,

Administrative Office of the U.S. Courts,

American Institute of Architects,

Board of Governors, American Bar Association,

California Administrative Office of the Courts,

Committee on Persons with Disabilities in the Legal Profession, Arizona State Bar Association,

Conference of State Court Administrators,

Cook Co. Government Office of Capital Planning and Policy,

David Calvert, PA,

Disabilities Law Project,

General Services Administration,

HDR Architecture, Inc.,

Hellmuth, Obata and Kassabaum, Inc.,

International Code Council,

Michael Graves & Associates,

Montana Advocacy Program,

National Association for Court Management,

National Center for State Courts,

National Fire Protection Association,

New Hampshire Governor's Commission on Disability,

Ninth Circuit for the U.S. Courts,

Paralyzed Veterans of America,

Phillips Swager Associates,

Securities and Facilities Committee, United States Judicial Conference,

Self Help for Hard of Hearing,

T.L. Shield & Associates,

Tenth Judicial Circuit Court of Florida,

U.S. Department of Justice,

United Spinal Association,

Vertical Mobility Division, and

Western Law Center for Disability Rights.

The Access Board regrets being unable to accommodate all requests for membership on the Committee. In order to keep the Committee to a size that can be effective, it was necessary to limit membership. It is also desirable to have balance among members of the Committee representing different interests, such as disability organizations and court administration. The membership of this Committee represents each of these vested interests.

Committee meetings will be open to the public and interested persons can attend the meetings and communicate their views. Members of the public will have an opportunity to address the Committee on issues of interest to them and the Committee. Historically, advisory committees establish subcommittees to address specific issues. Members of groups or individuals who are not members of the Committee may have an opportunity to participate on these subcommittees. The Access Board believes that participation of this kind can be very valuable for the advisory committee process.

The meeting will be held at a site accessible to individuals with disabilities. Real-time captioning will be provided. Individuals who require sign language interpreters should contact Elizabeth Stewart by October 22, 2004. Decisions with respect to future meetings will be made at the first meeting. Notices of future meetings will be published the Federal Register.

Lawrence W. Roffee,
Executive Director.

[FR Doc. 04-22856 Filed 10-8-04; 8:45 am]

BILLING CODE 8150-01-P